DEPARTMENT OF COMMERCE

National Oceanic and Atmospheric Administration

50 CFR Part 622

RIN 0648-AS65

Fisheries of the Caribbean, Gulf, and South Atlantic; Aquaculture

AGENCY: National Marine Fisheries Service (NMFS), National Oceanic and Atmospheric Administration (NOAA), Commerce.

ACTION: Supplemental Notice of Intent (NOI) to prepare a supplement to the final programmatic environmental impact statement (SFPEIS); request for comments.

SUMMARY: The Gulf of Mexico Fishery Management Council (Council) previously published a NOI for the Fishery Management Plan for Regulating Offshore Marine Aquaculture in the Gulf of Mexico (FMP; formerly the Draft Generic Amendment to Gulf of Mexico Fishery Management Plans for Offshore Aquaculture) on September 2, 2004. A notice of availability for the draft programmatic environmental impact statement (PEIS) was published on September 12, 2008. On June 26, 2009, a notice of availability was published for the final PEIS.

This supplemental NOI is intended to inform the public of NMFS and the Council's decision to consider new information from the Deepwater Horizon (DWH) MC252 blowout. This information is needed in order to consider potential changes to the environment linked to the DWH blowout and determine if and how such changes may affect the actions and alternatives analyzed in the FMP. Comments are being solicited on the range of issues related to the DWH blowout to be addressed in the SFPEIS.

DATES: Written comments on the range of issues to be addressed in the SFPEIS will be accepted until February 25, 2013.

ADDRESSES: You may submit comments on the supplemental NOI identified by NOAA-NMFS-2008-0233 by any of the following methods:

• Electronic Submissions: Submit all electronic public comments via the Federal e-Rulemaking Portal: http://www.regulations.gov. Go to www.regulations.gov/#!docketDetail;D=NOAA-NMFS-2008-0233, click the “Comment Now!” icon, complete the required fields, and enter or attach your comments.

• Mail: Submit written comments to Jess Beck, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the FMP, which includes a final programmatic environmental impact statement (FPEIS), an initial regulatory flexibility analysis (IRFA), and a regulatory impact review (RIR) may be obtained from the Southeast Regional Office Web site at http://sero.nmfs.noaa.gov/sf/AquacultureHomepage.htm or may be downloaded from the Council's Web site at http://gulfcouncil.org/fishery_management_plans/aquaculture_management.php.

FOR FURTHER INFORMATION CONTACT: Jess Beck, 727-824-5301, email: Jess.Beck@noaa.gov.

SUPPLEMENTARY INFORMATION: Aquaculture in the Gulf is managed under the FMP. The FMP was prepared by the Council and is implemented through regulations at 50 CFR part 622 under the authority of the Magnuson-Stevens Fishery Conservation and Management Act (Magnuson-Stevens Act).

Background

Worldwide demand for protein is increasing and fisheries production will not likely be adequate to supply the world demand for fisheries products without supplementation through aquaculture. In the United States, approximately 84 percent of all seafood consumed is currently imported from other countries, creating an annual trade deficit of over 9 billion dollars. It is estimated by 2025, two million more metric tons of seafood will be needed over and above what is consumed today. Commercial wild-capture fishery production has remained stable or declined in recent decades, due to overfishing and increasingly stringent management restrictions.

Aquaculture is one method to meet current and future demands for seafood. Prior to the FMP, there was no process for accommodating commercial-scale offshore aquaculture in Federal waters of the Gulf of Mexico (Gulf), other than live rock aquaculture which is authorized under Amendments 2 and 3 to the Fishery Management Plan for Coral and Coral Reefs of the Gulf. NMFS may issue an exempted fishing permit (EFP) to conduct offshore aquaculture in Federal waters; however, an EFP is of limited duration and is not intended for commercial production of fish and shellfish. The Council developed the FMP under the authority of the Magnuson-Stevens Act to authorize the development of commercial aquaculture operations in Federal waters of the Gulf. The FMP was initiated to provide a comprehensive framework for authorizing and regulating offshore aquaculture activities. The FMP also establishes a programmatic approach for evaluating the potential impacts of proposed aquaculture operations in the Gulf.

A NOI for the FMP was published on September 2, 2004 (69 FR 53682). A notice of availability for the draft PEIS was published on September 12, 2008 (73 FR 53001). On June 26, 2009, a notice of availability was published for the final PEIS (74 FR 30569). The FMP entered into effect by operation of law on September 3, 2009.

On April 20, 2010, an explosion occurred on the DWH MC252 oil rig, resulting in the release of an estimated 4.9 million bbl (779 million L) of oil into the Gulf. In addition, 1.84 million gal (6.96 million L) of Corexit 9500A dispersant were applied as part of the effort to constrain the spill. The well was successfully capped in a coordinated effort on July 15, 2010.

This supplemental NOI is intended to inform the public of NMFS and the Council's decision to consider new information from the DWH MC252 blowout. This information is needed in order to consider potential changes to the environment linked to the DWH blowout and determine if and how such changes may affect the actions and alternatives analyzed in the FMP. Comments are being solicited on the range of issues related to the DWH blowout to be addressed in the SFPEIS. Availability of the draft SFPEIS will be published at a later date in the Federal Register.

Authority: 16 U.S.C. 1801 et seq.

Dated: January 18, 2013.
James P. Burgess,
Acting Deputy Director, Office of Sustainable Fisheries, National Marine Fisheries Service.

[FR Doc. 2013-01562 Filed 1-24-13; 8:45 am]

BILLING CODE 3510-22-P